DEPARTMENT OF ENERGY

Federal Energy Regulatory Commission

[Project Nos. 943-083, 2145-057, and 2149-106]

Public Utility District of Chelan County and Public Utility District of Douglas County; Notice of Intent To Conduct Public Meeting Regarding License Amendment Applications and Habitat Conservation Plans for the Rock Island, Rocky Reach, and Wells Projects

January 8, 2004.

On February 11, 2004, Commission staff will be hosting a technical meeting regarding the anadromous fish agreements and habitat conservation plans filed on November 24, 2003, as license amendment applications for the Rock Island Project (FERC No. P-943), Rocky Reach Project (FERC No. P-2145), and Wells Project (FERC No. P-2149).

The meeting will allow the licensees for the projects to present the details of the amendment applications, anadromous fish agreements, and habitat conservation plans for each project to Commission staff and interested parties.

The meeting will be held on February 11, 2004, at the Federal Energy Regulatory Commission building located at 888 First Street, NE., Washington, DC, from 1 p.m. to 3 p.m. in Room 3M-2A. Intervenors and other parties interested in these issues are invited to attend and participate if they so desire.

Any questions about this notice should be directed to Bob Fletcher at the Federal Energy Regulatory Commission, (202) 502-8901 or robert.fletcher@ferc.gov.

Linda Mitry,
Acting Secretary.

[FR Doc. E4-46 Filed 01-13-04; 8:45 am]

BILLING CODE 6717-01-P